Proclamation 10911 of April 3, 2025

National Child Abuse Prevention Month, 2025

By the President of the United States of America

A Proclamation

America's children are the foundation of our families, the heirs of our freedom, and the stewards of our national promise. This National Child Abuse Prevention Month, we commit to empowering every child in America to lead a fulfilling life of dignity and love—and we pledge to bring every abuser, predator, and evildoer who threatens the health and safety of our children to swift justice.

As citizens, each of us is entrusted with the sacred responsibility of caring for the most vulnerable among us, especially children uniquely at risk of trauma and abuse. My Administration recognizes that the most powerful safeguard against child abuse is a stable family with loving parents, and that there is no substitute for a strong mother and father. For this reason, I am working every day to fortify our families and embolden our Nation's children to live their lives full of happiness, health, and success that they so dearly deserve. I call on every American to take steps to prevent child abuse and neglect before it occurs. By doing so, we can reduce the risk of depression, suicide, substance abuse, and developmental challenges in our youth.

Sadly, one of the most prevalent forms of child abuse facing our country today is the sinister threat of gender ideology. Proponents of the gender ideology movement are outrageously indoctrinating our children with the devastating lie that they are trapped in the wrong body—and that the only way they can be truly happy is to alter their sex with hormone therapy, puberty blockers, and sexual mutilation surgery. The evil and backwards lies of gender insanity are robbing our children of their happiness, health, and freedom, while imposing unimaginable heartbreak on parents and families. As I stated during my Joint Address to the Congress last month, my message to every American child is simple: you are perfect exactly the way God made you.

As President, I proudly signed Executive Order 14187 prohibiting public schools from indoctrinating our children with transgender ideology, while also taking action to cut off all taxpayer funding to any institution that engages in the sexual mutilation of our youth. To further protect our children, I have taken historic action to secure our southern border and end child trafficking—and am working diligently to make our young people healthy again.

This National Child Abuse Prevention Month, we pledge to stop the atrocity of child abuse in all its forms. We affirm that every perpetrator who inflicts violence on our children will be punished to the fullest extent of the law. Above all, we vow to give our children the tools they need to fully embrace God's gift of life, and to carry that radiant torch of American Liberty generations into the future.

NOW, THEREFORE, I, DONALD J. TRUMP, President of the United States of America, by virtue of the authority vested in me by the Constitution and the laws of the United States, do hereby proclaim April 2025 as National Child Abuse Prevention Month. I call upon all Americans to invest in the lives of our Nation's children, to be aware of their safety and well-being, and to support efforts that promote their psychological, physical, and emotional development.

IN WITNESS WHEREOF, I have hereunto set my hand this third day of April, in the year of our Lord two thousand twenty-five, and of the Independence of the United States of America the two hundred and forty-ninth.

[FR Doc. 2025-06159

Filed 4-8-25; 8:45 am]

Billing code 3395-F4-P